DEPARTMENT OF COMMERCE

National Oceanic and Atmospheric Administration

50 CFR Parts 600 and 648

[Docket No. 001127331-0331-01; I.D. No. 102600B]

RIN 0648-AN69

Magnuson-Stevens Act Provisions; Foreign Fishing and Fisheries of the Northeastern United States; Atlantic Mackerel, Squid, and Butterfish Fisheries; 2001 Specifications and Foreign Fishing Restrictions

AGENCY: National Marine Fisheries Service (NMFS), National Oceanic and Atmospheric Administration (NOAA), Commerce.

ACTION: Proposed 2001 initial specifications; request for comments.

SUMMARY: NMFS proposes initial specifications for the 2001 fishing year for Atlantic mackerel, squid, and butterfish (MSB). Regulations governing these fisheries require NMFS to publish specifications for the upcoming fishing year and to provide an opportunity for public comment. The intent of this action is to fulfill this requirement and to promote the development and conservation of the MSB resources. This action also proposes an inseason adjustment procedure for the 2001 mackerel joint venture processing (JVP) annual specifications and a proposal to allocate the domestic annual harvest (DAH) for Loligo squid into quarterly periods.

DATES: Public comments must be received no later than 5 p.m., eastern standard time, on January 4, 2001.

ADDRESSES: Comments on the proposed specifications should be sent to: Patricia A. Kurkul, Regional Administrator, Northeast Regional Office, NMFS, One Blackburn Drive, Gloucester, MA 01930-2298. Please mark the envelope, “Comments-2001 MSB Specifications.” Comments also may be sent via facsimile (fax) to 978-281-9135. Comments will not be accepted if submitted via e-mail or Internet.

Copies of supporting documents used by the Mid-Atlantic Fishery Management Council, including the Environmental Assessment and Regulatory Impact Review (RIR)/Initial Regulatory Flexibility Analysis (IRFA), are available from: Daniel Furlong, Executive Director, Mid-Atlantic Fishery Management Council, Room 2115, Federal Building, 300 South New Street, Dover, DE 19904-6790.

Send comments on any ambiguity or unnecessary complexity arising from the language used in this proposed rule to Patricia A. Kurkul, Regional Administrator.

FOR FURTHER INFORMATION CONTACT: Paul H. Jones, Fishery Policy Analyst (978)281-9273, fax 978-281-9135, e-mail paul.h.jones@noaa.gov.

SUPPLEMENTARY INFORMATION: Regulations implementing the Fishery Management Plan for the Atlantic Mackerel, Squid, and Butterfish Fisheries (FMP), prepared by the Mid-Atlantic Fishery Management Council (Council), appear at 50 CFR part 648, subpart B. Regulations governing foreign fishing appear at 50 CFR part 600, subpart F. These regulations, at §§ 600.516(c) and 648.21, require that NMFS, based on the maximum optimum yield (Max OY) of each fishery as established by the regulations, annually publish a proposed rule specifying the initial amounts of the initial optimum yield (IOY), as well as the amounts for allowable biological catch (ABC), DAH, domestic annual processing (DAP), JVP, and total allowable levels of foreign fishing (TALFF) for the affected species managed under the FMP. The regulations also specify that there will be no JVP or TALFF specified for Loligo, Illex, or butterfish, except that a butterfish bycatch TALFF will be specified if TALFF is specified for Atlantic mackerel. Procedures for determining the initial annual amounts are found in § 648.21.

In addition to the annual specifications for each of the four species managed under the FMP, the Council recommended that, for several species managed by the Council, 2 percent of the 2001 total allowable landings (TAL) for each of these species be set aside for data collection purposes. Because no TAL is specified for Atlantic mackerel, squid, and butterfish, TAL is considered equivalent to IOY. The deduction would occur no later than December 31, 2000, upon notification to the Northeast Regional Administrator that the Council, in consultation with the Atlantic States Marine Fisheries Commission, has approved a specific data collection project that would use the set-aside allocation. If a project is not approved before December 31, 2000, then a set-aside deduction from the TAL would not occur. However, the set-aside recommendation cannot become effective until the Council adopts a framework measure, which in turn, is approved by NMFS, to establish the regulatory underpinnings of the process to allocate the set-aside.

Table 1 contains the proposed initial specifications for the 2001 Atlantic mackerel, Loligo and Illex squids, and butterfish fisheries.

Table 1. Proposed Initial Annual Specifications, in Metric Tons (mt), for Atlantic Mackerel, Squid, and Butterfish for the Fishing Year January 1 through December 31, 2001.
Specifications | Squid: Loligo | Squid: Illex | Atlantic Mackerel | Butterfish
Max OY | 26,000 | 24,000 | N/A¹ | 16,000
ABC | 17,000 | 24,000 | 347,000 | 7,200
IOY | 17,000⁶ | 24,000⁶ | 88,000²,⁶ | 5,900⁶
DAH | 17,000 | 24,000 | 85,000³ | 5,897
DAP | 17,000 | 24,000 | 50,000 | 5,897
JVP | 0 | 0 | 20,000⁴ | 0
TALFF | 0 | 0 | 3,000 | 3⁵
¹ Not applicable.
² OY may be increased during the year, but the total ABC will not exceed 347,000 mt
³ Includes 15,000 mt of Atlantic mackerel recreational allocation.
⁴ JVP may be increased up to 30,000 mt at discretion of RA.
⁵ Bycatch TALFF specified at § 648.21(b)(3)(ii).
⁶ If a 2 percent research set-aside is deducted, the total IOY would be as follows: Atlantic mackerel - 86,240 mt, Loligo - 16,660 mt, Illex - 23,520 mt, and butterfish - 5,782 mt.

2001 Proposed Specifications

Atlantic Mackerel

Overfishing for Atlantic mackerel is defined by the FMP to occur when the catch associated with a threshold fishing mortality rate (F) of FMSY (the F that produces MSY (maximum sustainable yield)) is exceeded. When spawning stock biomass (SSB) is greater than 890,000 mt, the overfishing limit is FMSY (0.45), and the target F is 0.25. To avoid low levels of recruitment, the FMP adopted a control rule whereby the threshold F decreases linearly from 0.45 at 890,000 mt SSB to zero at 225,000 mt SSB (1/4 of the biomass level that would produce MSY on a continuing basis (BMSY)), and the target F decreases linearly from 0.25 at 890,000 mt SSB to zero at 450,000 mt SSB (1/2 BMSY). Annual quotas are specified that correspond to the target F resulting from this control rule.

Since SSB is currently above 890,000 mt, the target F for 2001 is 0.25. The yield associated with that target F at the estimated stock size is 369,000 mt. The ABC recommendation of 347,000 mt represents the F=0.25 yield estimate of 369,000 mt, minus the estimated Canadian catch of 22,000 mt. The proposed IOY for the 2001 Atlantic mackerel fishery is 88,000 mt, which is equal to the proposed DAH plus TALFF. The specification for DAH is computed by calculating the estimated recreational catch, the proposed DAP and JVP. The recreational catch component of DAH is estimated to be 15,000 mt. DAP and JVP components of DAH have historically been estimated using the Council's annual processor survey, which is intended to obtain estimates of processing capacity in the domestic and joint venture (JV) fisheries. However, for the years 1994 through 2001, response to this voluntary survey was low and did not contain projections from some large processors. The Council still believes, based on the best data available, that the capacity of the domestic fleet to harvest mackerel greatly exceeds the domestic processors capacity to process mackerel. Additionally, the Council generally agreed that JVs have had a positive impact on the development of the U.S. Atlantic mackerel fishery. This assertion led to the Council recommendation that JVP be set at 20,000 mt in 2001 (10,000 mt more than 1999 and 2000; 5,000 mt more than in 1998; and 5,000 mt less than in 1997).

The Council has recommended, and NMFS proposes, a specification of 20,000 mt of JVP for the 2001 fishery, with a possible increase to 30,000 mt later in the year. If additional applications for JVP are received, NMFS could increase this allocation to 30,000 mt by publishing notification in the Federal Register. The Council also recommended, and NMFS proposes, a DAP of 50,000 mt, yielding a DAH of 85,000 mt, which includes the 15,000-mt recreational catch component.

A TALFF of 3,000 mt is recommended by the Council and proposed by NMFS for the 2001 Atlantic mackerel fishery. Several foreign nations have expressed their interest in JVP, with two applications already submitted by Lithuania and the Russian Federation. TALFF, which is foreign fishing, rather than just processing by foreign vessels, would be authorized only if U.S. vessels are unable to deliver product to foreign JV catcher/processor vessels for a period of time due to events such as bad weather. The Council’s intent is to encourage JV fisheries by allowing TALFF in special circumstances.

As authorized by §§ 600.501 and 600.520(b)(2)(ii), the Council also recommended, and NMFS proposes, that several special conditions be imposed on the 2001 Atlantic mackerel fishery, as follows: (1) JVs would be allowed south of 37° 30′ N. lat., but river herring bycatch may not exceed 0.25 percent of the over-the-side transfers of Atlantic mackerel; (2) directed foreign fishing for Atlantic mackerel would be prohibited south of 37° 30′ N. lat., north of 37° 30′ N. lat., directed foreign fishing for Atlantic mackerel would be prohibited landward of a line 20 nautical miles from shore and no bycatch TALFF of river herring is specified; (3) the Administrator, Northeast Region, NMFS (Regional Administrator) should ensure that impacts on marine mammals are reduced in the prosecution of the Atlantic mackerel fishery; (4) the mackerel optimum yield (OY) may be increased during the year, but the total should not exceed 347,000 mt; (5) applications from a particular nation for a Atlantic mackerel JV or TALFF allocation for 2001 may be based on an evaluation by the Regional Administrator of that nation's performances relative to purchase obligations for previous years; (6) no purchase ratios would be specified; upon approval of an application for TALFF, 50 percent of the foreign nation’s TALFF allotment would be released; additional TALFF would be released only when the foreign participant has purchased 25 percent of the JVP allotment to that nation; (7) foreign fishing vessels (FFV) would be required to purchase JVP-caught fish from contracted U.S. vessels; if a FFV were engaged in directed fishing and is approached by a contracted U.S. vessel, the FFV would be required to cease directed fishing and take the transfer from the U.S. vessel as soon as practicable; (8) no in-season adjustment in TALFF (i.e., TALFF not to exceed 3,000 mt) would be authorized, unless the Regional Administrator, with concurrence of the Council, determined that it is appropriate to increase IOY to provide additional TALFF, but the TALFF should not exceed a cap of 5,000 mt; an (9) directed foreign fishing for Atlantic mackerel would be limited to the use of mid-water trawl gear.

Atlantic Squids

Loligo

The FMP defines overfishing for Loligo as occurring when the catch associated with a threshold of the fishing mortality that produces the maximum sustainable level of yield per recruit (FMAX) is exceeded (FMAX is a proxy for FMSY). When an estimate of FMSY becomes available, it will replace the current overfishing proxy FMAX. Max OY is specified as the catch associated with a FMAX. In addition, the biomass target is specified as BMSY.

The most recent stock assessment for Loligo (the 29th Northeast Regional Stock Assessment Workshop, August 1999 (SAW-29)) concluded that the stock is approaching an overfished condition and that overfishing is occurring. More recently, NMFS' Report to Congress: Status of Fisheries of the United States (October 1999) determined that the Loligo stock is overfished.

The Magnuson-Stevens Fishery Conservation and Management Act requires the Council to take remedial action to rebuild an overfished stock to a level that will produce BMSY. The control rule in the FMP specifies that the target F must be reduced to zero if biomass falls below 50 percent of BMSY. The target F increases linearly to 75 percent of FMSY as biomass increases to BMSY. However, projections made in SAW-29 indicate that the Loligo control rule appears to be overly conservative. The projections from SAW 29 indicated that the Loligo biomass could be rebuilt to levels approximating Bmsy in three years if fishing mortality was reduced to the target mortality rate specified in Amendment 8 of 75 percent of FMSY. The yield associated with this fishing mortality rate (75 percent of FMSY) in 2000, assuming status quo F in 1999, was estimated to be 11,732 mt in SAW 29. The current regulations still specify Max OY as the yield associated FMAX, or 26,000 mt. In determining the specification of ABC for the year 2000, the Council considered advice offered by SAW 29 which indicated that the control rule adopted in Amendment 8 was too conservative. Model projections presented in the most recent assessment demonstrated that the stock could be rebuilt in a relatively short period of time, even at fishing mortality rates approaching FMSY. Based on the SAW 29 projections, the Council chose to specify ABC as the yield associated with 90 percent FMSY or 13,000 mt in 2000.

The most recent survey data for Loligo squid indicate that abundance of this species has increased significantly since the most recent assessment was conducted (i.e., SAW-29). Estimates of biomass based on NMFS’ Northeast Fisheries Science Center (NEFSC) fall 1999 and spring 2000 survey indices for Loligo indicate that the stock is currently at or near Bmsy. In fact, the 1999 fall survey index was the sixth highest value observed in the time series since 1967 and the second highest since 1987. The 2000 spring survey index for Loligo was the tenth highest in the time series since 1968 and the fifth highest since 1987. Based on the assumption that the stock will be at or near BMSY in 2001, the Council recommended that the 2001 quota be specified as the yield associated with 75 percent of FMSY. The yield associated with 75 percent of FMSY at BMSY is 17,000 mt, based on projections in SAW-29. The establishment of quarterly allocation periods spreads F out over the fishing year and is expected to protect spawners. The current regulations still specify Max OY as the yield associated with FMAX, or 26,000 mt.

Thus, the proposed Max OY for Loligo is 26,000 mt and the recommended ABC for the 2001 fishery is 17,000 mt. NMFS issued a notification in the Federal Register on October 10, 2000 (65 FR 60118), announcing an inseason action to adjust the 2000 annual specifications for Loligo squid, including ABC, IOY, DAH and DAP, from 13,000 mt to 15,000 mt. Therefore, the 2001 annual specifications represent an increase of 2,000 mt from the 2000 ABC of 15,000 mt. This ABC is based on the NEFSC fall 1999 and spring 2000 survey indices for Loligo and is determined to be a level that would allow the Loligo stock to rebuild to levels at or near BMSY within 3 to 5 years.

Distribution of Annual Loligo Quota into Four Quarters

The Council recommended, and NMFS proposes, an IOY of 17,000 mt for Loligo squid, which is equal to ABC. Management advice from SAW-29 made special note of the fact that yield from this fishery should be distributed throughout the fishing year. Given that the current permitted fleet historically has demonstrated the ability to land Loligo in excess of the quota specified for 2001, the Council recommends, and NMFS proposes, that the annual quota be subdivided into quarterly periods. The quota would be allocated to each period based on the proportion of landings occurring in each 4-month period from 1994-1998. The directed fishery would be closed in Quarters I-III when 80 percent of that period’s allocation is harvested, with vessels restricted to a 2,500-lb (1,134-kg) Loligo trip limit until the end of the respective quarter. Additionally, when 95 percent of the total annual DAH has been harvested, the trip limit would be reduced to 2,500 lb (1,134 kg) of Loligo for the remainder of the year. When the 2,500-lb (1,134-kg) trip limit has been triggered, vessels will be prohibited from possessing or landing more than 2,500 lb in a single calendar day. Any quota overages in Quarter I would be deducted from the allocation in Quarter III, and any overage in Quarter II would be deducted from the allocation in Quarter IV. The quota allocation is shown in Table 2.

Table 2. Loligo Quarterly Allocations.
Quarter | Percent | Metric Tons
I (Jan-Mar) | 33.23 | 5,649
II (Apr-Jun) | 17.61 | 2,994
III (Jul-Sep) | 17.3 | 2,941
IV (Oct-Dec) | 31.86 | 5,416
Total | 100.00 | 17,000

In Amendment 5 to the FMP, the Council concluded that U.S. vessels have the capacity to, and will harvest the OY on an annual basis, so DAH equals OY. The Council also concluded that U.S. fish processors, on an annual basis, can process that portion of the OY that will be harvested by U.S. commercial fishing vessels, so DAP equals DAH, and JVP is zero. Since U.S. fishing vessels have the capacity to harvest, and are expected to attempt to harvest, the entire OY, there is no portion of the OY that can be made available for foreign fishing, making TALFF zero. These determinations were made in Amendment 5 to the FMP. The proposed values of IOY, DAH, and DAP are 17,000 mt for the 2001 Loligo fishery, and represent an increase of 2,000 mt from the final 2000 Loligo IOY/DAH/DAP specifications (NMFS issued a notification in the Federal Register on October 10, 2000 (65 FR 60118), announcing an inseason action to adjust the 2000 annual specifications for Loligo squid, including ABC, IOY, DAH and DAP, from 13,000 mt to 15,000 mt).

Illex

The approved overfishing definition for Illex states that overfishing for Illex occurs when the catch associated with a threshold fishing mortality rate of FMSY is exceeded. Maximum OY is to be specified as the catch associated with a fishing mortality rate of FMSY. In addition, the biomass target is specified as BMSY. The minimum biomass threshold is specified as 1/2 BMSY.

The most recent assessment of the Illex stock (SAW-29) concluded that the stock is not overfished and that overfishing is not occurring. The previous assessment, the 21st Northeast Regional Stock Assessment (1996), had concluded that the U.S. Illex stock is fully exploited. Due to a lack of adequate data, the estimate of yield at F MSY was not updated in SAW-29. However, an upper bound on annual F was computed for the U.S. Exclusive Economic Zone portion of the stock, based on a model that incorporated weekly landings and relative fishing effort and mean squid weights during 1994-1998. These estimates of F were well below the biological reference points. Current absolute stock size is unknown and no stock projections were done in SAW-29.

Since data limitations did not allow an update of yield estimates at the threshold and target F values, the Council recommended, and NMFS proposes, that the specification of Max OY and ABC be specified as 24,000 mt (the yield associated with F MSY). Under this option, the directed fishery for Illex would remain open until 95 percent of the ABC is taken (22,800 mt). Once 95 percent of the ABC is estimated to have been taken, the directed fishery would be closed and a 5,000-lb (2,268-kg) trip limit would remain in effect for the remainder of the fishing year. Similar to Loligo, when a trip limit is in effect, vessels are prohibited from possessing or landing more than 5,000 lb (2,268 kg) in a single calendar day. Amendment 5 to the FMP eliminated the possibility of JVP and TALFF for the Illex fishery because of the domestic fishing industry’s ability to harvest and to process the OY from this fishery.

Butterfish

The FMP set OY for butterfish at 16,000 mt. Based on the most current stock assessment, the Council recommends, and NMFS proposes, an ABC of 7,200 mt for the 2001 fishery. This represents no change in the specifications since 1996. Commercial landings of butterfish have been low at 2,798 mt, 1,964 mt, and 2,116 mt for the 1997 through 1999 fisheries, respectively. Lack of market demand and the difficulty in locating schools of market-sized fish have caused severe reductions in the supply of butterfish. Discard data from the offshore Illex fishery are lacking and high discard rates could be reducing potential yield.

The Council recommended, and NMFS proposes, an IOY for butterfish of 5,900 mt. The IOY is composed of a DAH of 5,897 mt and a bycatch TALFF that is equal to 0.08 percent of the allocated Atlantic mackerel TALFF. Amendment 5 eliminated the possibility of JVP or TALFF specifications for butterfish except for a bycatch TALFF specification if TALFF is specified for Atlantic mackerel. Since the Council has recommended TALFF for Atlantic mackerel, TALFF for butterfish is 3 mt. If the Regional Administrator, with concurrence of the Council, determines that it is appropriate to increase the current proposed TALFF of 3,000 mt for Atlantic mackerel up to a final 5,000 mt, then TALFF for butterfish would be increased from 3 mt to a final value of 4 mt.

Classification

This proposed rule has been determined to be not significant for purposes of Executive Order 12866.

The Council prepared an IRFA in section 5.0 of the RIR that describes the economic impacts this proposed rule, if adopted, would have on small entities. A summary of the analysis follows:

The IRFA describes the action, why it is being considered, and the legal basis for it. These are the same as appear at the beginning of this preamble and in the SUMMARY section of the preamble and are not repeated here.

The IRFA identifies the number of potential fishing vessels in the 2001 fisheries as 443 vessels fishing for Loligo, 77 vessels fishing for Illex, 443 vessels fishing for butterfish, and 1,980 vessels fishing for Atlantic mackerel. Many vessels participate in more than one of these fisheries; therefore, the numbers are not additive. The proposed ABC specifications of 347,000 mt and DAH of 85,000 mt for Atlantic mackerel, the DAH specifications of 24,000 mt for Illex squid, and the DAH specifications of 5,900 mt for butterfish, represent no constraint on vessels in these fisheries. The proposed specifications have not been achieved by landings for these species in recent years. Absent a constraint on the fisheries, no impacts on revenues are expected.

If the 2001 DAH specification of 17,000 mt for Loligo squid is not exceeded, the result would be a decrease in catch and revenue in the Loligo fishery relative to the 1999 landings and an increase from the average landings from 1996-1999 (i.e., if the status quo were maintained).

The first alternative action for Atlantic mackerel would be to set the 2001 specifications at the same level as 2000. Although it was rejected as inconsistent with the FMP because it would not meet the policy objectives of the Council relative to further development of the US domestic harvest of Atlantic mackerel, this alternative would place no constraints, and consequently no revenue impacts, on the fishery. The second alternative for mackerel was to set ABC at the long-term potential catch (LTPC), or 150,000 mt. This alternative was found inconsistent with the FMP because it would not allow for variations and contingencies in the status of the stock. For example, the current adult stock was recently estimated to exceed 2.1 million mt. The specification of ABC at LTPC would effectively result in an exploitation rate of only about 6 percent, well below the optimal level of exploitation. The level of foregone yield under this alternative was considered unacceptable and would not impact the IOY specifications. The third alternative considered for mackerel included the elimination of JVP, which would lower the specification of IOY to 68,000 mt, also far in excess of recent landings. These alternatives would not constrain the fishery and were determined to have no impact on revenues of participants in this fishery.

For Loligo, one alternative that was considered was to set the ABC, DAH, DAP, and IOY at 13,000 mt. This was the same level as 2000 until an inseason adjustment increased the ABC, DAH, DAP, and IOY to 15,000 mt (65 FR 60118, October 10, 2000). Under the scenario of a 13,000 mt DAH; if that value were not exceeded in 2001, 121 of the 443 impacted vessels would experience revenue reductions of greater than 5 percent. This would represent a 20.5-percent reduction in 1996-1999 average landings of 16,348 mt. The remaining 322 vessels would experience less than 5-percent reduction in revenue or an increase in revenue. A second alternative would set ABC, DAH, DAP, and IOY at 11,700 mt. This would represent a 28.4-percent reduction in 1996-1999 average landings. Under this scenario, 161 of the 443 impacted vessels would experience revenue reductions of greater than 5-percent. The remaining 282 vessels would experience less than a 5-percent reduction in revenue, or an increase in revenue.

For Illex, the first alternative that sets Max OY, ABC, IOY, DAH, and DAP of 30,000 mt and the second alternative that sets Max OY at 24,000 mt and ABC, IOY, DAH, and DAP at 19,000 mt far exceed recent landings in this fishery. Therefore, there would be no constraints, and, thus, no revenue reductions, associated with these specifications.

For butterfish, the Council considered a DAH, OY, and Max OY of 16,000 mt and a DAH and OY of 10,000 mt. These specifications would not constrain or impact the industry; however, they would lead to overfishing of the stock, and, thus, were rejected by the Council.

This rule does not duplicate, overlap, or conflict with other Federal rules. There are no recordkeeping or reporting requirements associated with this rule.

A copy of the IRFA is available from the Council (see ADDRESSES).

The President has directed Federal agencies to use plain language in their communications with the public, including regulations. To comply with this directive, we seek public comment on any ambiguity or unnecessary complexity arising from the language used in this proposed rule. Such comments should be sent to Patricia A. Kurkul, the Regional Administrator (see ADDRESSES).

List of Subjects in 50 CFR Part 648

Fisheries, Fishing, Reporting and recordkeeping requirements.

Dated: November 28, 2000.
William T. Hogarth,
Deputy Assistant Administrator for Fisheries, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.21, paragraph (e) is revised to read as follows:

§ 648.21 Procedures for determining initial annual amounts.

* * * * *

(e) Distribution of annual Loligo squid commercial quota. (1) Beginning January 1, 2001, a commercial quota will be allocated annually for Loligo squid into quarterly periods, based on the following percentages:

Commercial Quota
Quarter | Percent
I January-March | 33.23
II April-June | 17.61
III July-September | 17.30
IV October-December | 31.86

(2) Beginning January 1, 2001, any overages of commercial quota landed from Quarter I will be subtracted from Quarter III and any overages of commercial quota landed from Quarter II will be subtracted from Quarter IV.

* * * * *

3. In § 648.22, paragraph (a) is revised to read as follows:

§ 648.22 Closure of the fishery.

(a) General. NMFS shall close the directed mackerel fishery in the EEZ when U.S. fishermen have harvested 80 percent of the DAH of that fishery if such closure is necessary to prevent the DAH from being exceeded. The closure shall remain in effect for the remainder of the fishing year, with incidental catches allowed as specified in paragraph (c) of this section, until the entire DAH is attained. When the Regional Administrator projects that DAH will be attained for mackerel, NMFS will close the mackerel fishery in the EEZ, and the incidental catches specified for mackerel in paragraph (c) of this section will be prohibited. NMFS will close the directed fishery in the EEZ for Loligo when 80 percent is harvested in Quarters I, II and III, and when 95 percent of the total annual DAH has been harvested. The closure of the directed fishery will be in effect for the remainder of the fishing year, with incidental catches allowed as specified in paragraph (c) of this section. NMFS will close the directed fishery in the EEZ for Illex or butterfish when 95 percent of the DAH has been harvested. The closure of the directed fishery will be in effect for the remainder of the fishing year, with incidental catches allowed as specified in paragraph (c) of this section.

* * * * *

[FR Doc. 00-30819 Filed 12-4-00; 8:45 am]

BILLING CODE: 3510-22-S